DEPARTMENT OF LABOR

Employee Benefits Security Administration

Proposed Extension of Information Collection Request Submitted for Public Comment and Recommendations; Notice of Special Enrollment Rights

ACTION: Notice.

SUMMARY: The Department of Labor, as part of its continuing effort to reduce paperwork and respondent burden, provides the general public and Federal agencies with an opportunity to comment on proposed and/or continuing collections of information in accordance with the Paperwork Reduction Act of 1995 (PRA 95) (44 U.S.C. 3506(c)(2)(A)). This program helps to ensure that requested data can be provided in the desired format, reporting burden (time and financial resources) is minimized, collection instruments are clearly understood, and the impact of collection requirements on respondents can be properly assessed. Currently, the Employee Benefits Security Administration is soliciting comments concerning the proposed extension of a currently approved collection of information: Notice of Special Enrollment Rights. A copy of the information collection request (ICR) can be obtained by contacting the office shown in the addresses section below.

DATES: Written comments must be submitted on or before May 12, 2003.

ADDRESSES: Joseph S. Piacentini, Department of Labor, Employee Benefits Security Administration, 200 Constitution Avenue, NW., Washington, DC 20210, (202) 693-8410, Fax (202) 219-5333 (these are not toll-free numbers).

SUPPLEMENTARY INFORMATION:

I. Background

Section 734 of ERISA, added by the Health Care Portability and Accountability Act of 1996 (HIPAA), authorized the Secretary of Labor, in coordination with the Secretary of Health and Human Services (HHS) and the Secretary of the Treasury, to promulgate such regulations as may be necessary or appropriate to carry out the provisions of the statute. Accordingly, Interim Rules Implementing the Portability Requirement for Group Health Plans were published on April 8, 1997, (62 FR 16920) (April 8 Interim Rules).

In order to improve participants' understanding of their rights under an employer's group health plan, HIPAA requires that a participant be provided with a description of a plan's special enrollment rules on or before the time that a participant is offered the opportunity to enroll in a group health plan. The ICR implements the disclosure requirements of HIPAA related to special enrollment rights. These special enrollment rules generally apply to circumstances in which the participant initially declined to enroll in a plan, and later wishes to enroll.

The April 8 Interim Rules offer a model form to be used by group health plans and health insurance issuers that includes the minimum elements of information mandated by the statute.

II. Desired Focus of Comments

The Department of Labor (Department) is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The Department has not modified the ICR incorporated in the April 8 Interim Rules, but intends to submit the ICR to OMB for continued clearance. Comments received in response to this notice will be incorporated in the submission to OMB.

Agency: Department of Labor, Employee Benefits Security Administration.

Title: Notice of Special Enrollment Rights.

Type of Review: Extension of a currently approved collection.

OMB Number: 1210-0101.

Affected Public: Business or other for-profit, Not-for-profit institutions, Individuals or households.

Frequency of Response: On occasion.

Respondents: 2,600,000.

Responses: 9,602,000.

Total Estimated Burden Hours: 7,200.

Total Burden Cost (Operating and Maintenance): $841,000.

Comments submitted in response to this notice will be summarized and/or included in the request for Office of Management and Budget approval of the information collection request; they will also become a matter of public record.

Dated: March 5, 2003.
Joseph S. Piacentini,
Deputy Director, Office of Policy and Research, Employee Benefits Security Administration.

[FR Doc. 03-5729 Filed 3-10-03; 8:45 am]

BILLING CODE 4510-29-P